ENVIRONMENTAL PROTECTION AGENCY

[FRL-7794-2]

Science Advisory Board Staff Office; Request for Nominations for the Science Advisory Board Metals Risk Assessment Framework Review Panel

AGENCY: Environmental Protection Agency (EPA).

ACTION: Notice.

SUMMARY: The EPA Science Advisory Board (SAB) Staff Office announces the formation of a new SAB review panel known as the Metals Risk Assessment Framework Review Panel, and is soliciting nominations for members of the Panel.

DATES: Nominations should be submitted by August 19, 2004, per the instructions below.

FOR FURTHER INFORMATION CONTACT: Any member of the public wishing further information regarding this Request for Nominations may contact Dr. Thomas Armitage, Designated Federal Officer (DFO), via telephone/voice mail at (202) 343-9995; via e-mail at armitage.thomas@epa.gov; or at the U.S. EPA Science Advisory Board (1400F), 1200 Pennsylvania Ave., NW., Washington, DC 20460. General information about the SAB can be found in the SAB Web site at http://www.epa.gov/sab.

SUPPLEMENTARY INFORMATION: Background: A basic input to the decision-making process for many EPA programs is an assessment of potential risks posed by environmental contaminants including metal or metal compounds. As such, EPA has been undertaking an effort to develop cross-agency guidance for assessing the human health and ecological hazards and risks of metals and metal compounds. As recommended in EPA's Metals Action Plan, the Agency developed the draft guidance document, Framework for Metals Risk Assessment, to supplement previous EPA guidance for use in site-specific risk assessments, criteria derivation, and other similar Agency activities related to metals.

The Framework for Metals Risk Assessment is organized around the risk assessment paradigm. The document provides a conceptual model that highlights areas where consideration of metal-specific information is necessary and advantageous when conducting risk assessments. It outlines recommendations for conducting risk assessment for metals and metal compounds, based on the unique attributes of these compounds. The guidance document also discusses metal-specific issues, methods, and tools to be considered when conducting hazard and risk assessments. Specific sections of the guidance address metal-specific issues related to environmental chemistry, exposure, bioaccumulation and bioavailability, ecological effects, and human health effects. In addition, the guidance discusses research underway, planned, and needed to reduce uncertainty in metals risk assessment.

The EPA SAB Staff Office is announcing the formation of a new panel to conduct a peer review of EPA's Framework for Metals Risk Assessment. As part of the SAB's mission, established by 42 U.S.C. 4365, to provide independent scientific and technical advice, consultation, and recommendations to the EPA Administrator on the technical bases for EPA policies and regulations, the work of this panel is expected to continue until the review is complete.

The SAB is a chartered Federal advisory committee, that reports directly to the EPA Administrator. The Metals Risk Assessment Framework Review Panel will provide advice through the chartered SAB. The Metals Risk Assessment Framework Review Panel will comply with the openness provisions of the Federal Advisory Committee Act (FACA) and all appropriate SAB procedural policies, including the SAB process for panel formation described in the Overview of the Panel Formation Process at the Environmental Protection Agency Science Advisory Board, which can be found on the SAB's Web site at: http://www.epa.gov/sab/pdf/ec0210.pdf.

Tentative Charge to the Panel: The specific details of the charge remain to be finalized. However, in general, the Panel will assess the scientific and technical adequacy of the document in providing guidance to assess potential risks posed by metals or metal compounds to human health and the environment. The Panel will assess the scientific validity and completeness of the technical content in various sections of the document, and the appropriateness of tools, approaches, and recommendations provided.

EPA Technical Contact: For technical inquiries concerning the draft Framework for Metals Risk Assessment, please contact Dr. William Wood, U.S. EPA Office of Research and Development, Risk Assessment Forum (8601-D), 1200 Pennsylvania Ave., NW., Washington, DC 20460; telephone (202) 564-3361; facsimile (202) 564-0062; e-mail: forum.risk@epa.gov.

Request for Nominations: The SAB Staff Office is requesting nominations of recognized experts in one or more of the following areas: (a) Environmental chemistry of metals, (b) environmental fate and transport of metals, (c) bioavailability of metals, (d) routes of exposure of aquatic and terrestrial species to metals, (e) routes of human exposure to metals, (f) human health effects of exposure to metals, and (g) ecological effects of exposure to metals.

Process and Deadline for Submitting Nominations: Any interested person or organization may nominate individuals qualified in the areas of expertise described above to serve on the Panel. Nominations should be submitted in electronic format through the Form for Nominating Individuals to Panels of the EPA Science Advisory Board provided on the SAB Web site, http://www.epa.gov/sab. The form can be accessed through a link on the blue navigational bar on the SAB Web site, http://www.epa.gov/sab. To be considered, all nominations must include the information required on that form.

Anyone who is unable to submit nominations using this form, and any questions concerning any aspects of the nomination process may contact the DFO, as indicated above in this notice. Nominations should be submitted in time to arrive no later than August 19, 2004. Any questions concerning either this process or any other aspects of this notice should be directed to the DFO.

The SAB will acknowledge receipt of the nomination and inform nominators of the panel selected. From the nominees identified by respondents to this Federal Register notice (termed the “Widecast”), SAB Staff will develop a smaller subset (known as the “Short List”) for more detailed consideration. Criteria used by the SAB Staff in developing this Short List are given at the end of the following paragraph. The Short List will be posted on the SAB Web site at: http://www.epa.gov/sab, and will include, for each candidate, the nominee's name and biosketch. Public comments on the Short List will be accepted for 21 calendar days. During this comment period, the public will be requested to provide information, analysis or other documentation on nominees that the SAB Staff should consider in evaluating candidates for the Panel.

For the SAB, a balanced review panel (i.e., committee, subcommittee, or panel) is characterized by inclusion of candidates who possess the necessary domains of knowledge, the relevant scientific perspectives (which, among other factors, can be influenced by work history and affiliation), and the collective breadth of experience to adequately address the charge. Public responses to the Short List candidates will be considered in the selection of the panel, along with information provided by candidates and information gathered by SAB Staff independently of the background of each candidate (e.g., financial disclosure information and computer searches to evaluate a nominee's prior involvement with the topic under review). Specific criteria to be used in evaluation of an individual subcommittee member include: (a) Scientific and/or technical expertise, knowledge, and experience (primary factors); (b) absence of financial conflicts of interest; (c) scientific credibility and impartiality; (d) availability and willingness to serve; and (e) ability to work constructively and effectively in committees.

Short List candidates will also be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

In addition to reviewing background material, Panel members will be asked to attend one public face-to-face meeting over the anticipated course of the advisory activity.

Dated: July 23, 2004.
Vanessa T. Vu,
Director, EPA Science Advisory Board Staff Office.

[FR Doc. 04-17309 Filed 7-28-04; 8:45 am]

BILLING CODE 6560-50-P